ENVIRONMENTAL PROTECTION AGENCY

[FRL-8527-9]

The Sixteenth Meeting of the Mississippi River/Gulf of Mexico Watershed Nutrient Task Force

AGENCY: Environmental Protection Agency (EPA).

ACTION: Notice; meeting announcement.

SUMMARY: This notice announces the Sixteenth Public Meeting of the Mississippi River/Gulf of Mexico Watershed Nutrient Task Force. The purpose of this Task Force, consisting of federal and state members, is to lead efforts to coordinate and support nutrient management and hypoxia-related activities in the Mississippi River and Gulf of Mexico watersheds. The matter for discussion at the meeting is to seek approval on the revised 2001 Action Plan for Reducing, Mitigating, and Controlling Hypoxia in the Northern Gulf of Mexico for release in March 2008. The public will be afforded an opportunity to provide input to the Task Force during open discussion periods.

DATES: The public meeting will be held on February 28, 2008, from 1-5 p.m. CST.

ADDRESSES: The meeting is located at Intercontinental Chicago, 505 N. Michigan Ave., Chicago, IL 60611. Telephone: (312) 321-8706. Additional information, meeting materials and meeting registration can be found at http://www.epa.gov/msbasin.

FOR FURTHER INFORMATION CONTACT: For registration and other information contact Kristen Goodrich, U.S. EPA, Oceans and Coastal Protection Division (OCPD), Mail Code 4504T, 1200 Pennsylvania Avenue, NW., Washington, DC 20460; Phone (202) 566-1284; E-mail: OW-hypoxia@epa.gov.

Dated: February 6, 2008.
Craig Hooks,
Director, Office of Wetlands, Oceans and Watersheds.

[FR Doc. E8-2545 Filed 2-11-08; 8:45 am]

BILLING CODE 6560-50-P